DEPARTMENT OF JUSTICE

[OMB Number 1117-0003]

Agency Information Collection Activities; Proposed eCollection eComments Requested; Reinstatement, With Change, of a Previously Approved Collection for Which Approval Has Expired: ARCOS Transaction Reporting

AGENCY: Drug Enforcement Administration, Department of Justice.

ACTION: 60-Day notice.

SUMMARY: The Department of Justice (DOJ), Drug Enforcement Administration (DEA), will be submitting the following information collection request to the Office of Management and Budget (OMB) for review and approval in accordance with the Paperwork Reduction Act of 1995. The proposed information collection is published to obtain comments from the public and affected agencies.

DATES: Comments are encouraged and will be accepted for 60 days until June 17, 2014.

FOR FURTHER INFORMATION CONTACT: If you have additional comments especially on the estimated public burden or associated response time, suggestions, or need a copy of the proposed information collection instrument with instructions or additional information, please contact Ruth A. Carter, Chief, Policy Evaluation Analysis Section, Office of Diversion Control, Drug Enforcement Administration, 8701 Morrissette Drive, Springfield, VA 22152.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: ARCOS Transaction Reporting—DEA Form 333.

3. The agency form number, if any, and the applicable component of the Department sponsoring the collection: The form number is DEA Form 333. The applicable component within the Office of Diversion Control, Drug Enforcement Administration, United States Department of Justice.

4. Affected public who will be asked or required to respond, as well as a brief abstract: Controlled substances manufacturers and distributors must report acquisition/distribution transactions to the DEA to comply with Federal law and international treaty obligations. This information helps to ensure a closed system of distribution for these substances.

5. An estimate of the total number of respondents and the amount of time estimated for an average respondent to respond: The DEA estimates that 1,265 respondents, with 7,932 responses annually to this collection. The DEA estimates that it takes 1 hour to complete the form.

6 An estimate of the total public burden (in hours) associated with the collection: The DEA estimates this collection has a public burden of 6,856 hours annually.

If additional information is required contact: Jerri Murray, Department Clearance Officer, United States Department of Justice, Justice Management Division, Policy and Planning Staff, Two Constitution Square, 145 N Street NE., 3E.405B, Washington, DC 20530.

Dated: April 15, 2014.
Jerri Murray,
Department Clearance Officer for PRA, U.S. Department of Justice.

[FR Doc. 2014-08860 Filed 4-17-14; 8:45 am]

BILLING CODE 4410-09-P